DEPARTMENT OF HEALTH AND HUMAN SERVICES

Solicitation of Written Comments on Draft Phase 3 Long-Term Care Facilities Strategy/Module for Inclusion in the National Action Plan To Prevent Healthcare-Associated Infections: Roadmap to Elimination

AGENCY: Department of Health and Human Services, Office of the Assistant Secretary for Health, Office of Healthcare Quality.

ACTION: Notice.

SUMMARY: The Office of Healthcare Quality is soliciting public comment on a new long-term care facilities strategy/module of the National Action Plan to Prevent Healthcare-Associated Infections: Roadmap to Elimination. To further the HHS mission to protect the health and well-being of the nation, the HHS Steering Committee for the Prevention of Healthcare-Associated Infections has developed a draft comprehensive strategy for preventing and reducing healthcare-associated infections in long-term care facilities. This Phase 3 Long-Term Care Facilities module builds upon and is to be included in the existing National Action Plan to Prevent Healthcare-Associated Infections: Roadmap to Elimination that focuses on reducing healthcare-associated infections (HAIs) in acute care hospitals, ambulatory surgical centers, and end stage renal disease facilities and presents strategies for increasing healthcare personnel influenza vaccination coverage (Phases 1 & 2).

DATES: Comments on the draft Phase 3 Long-Term Care Facilities module should be received no later than 5:00 p.m. Eastern daylight saving time on August 22, 2012.

ADDRESSES: The draft Phase 3 Long-Term Care Facilities module can be found at http://www.hhs.gov/ash/initiatives/hai/actionplan/index.html#tier3. Comments are preferred electronically and may be addressed to OHQ@hhs.gov. Written responses should be addressed to the Office of Disease Prevention and Health Promotion, 1101 Wootton Parkway, Suite LL100, Rockville, MD 20852, Attention: Draft Phase 3 Long-Term Care Facilities Module.

FOR FURTHER INFORMATION CONTACT: Debra Nichols (240) 453-8264 or OHQ@hhs.gov.

SUPPLEMENTARY INFORMATION:

I. Background

HAIs are among the leading causes of morbidity and mortality in the United States and the most common type of adverse event in the field of healthcare today. They are defined as localized or systemic adverse events, resulting from the presence of an infectious agent or toxin, occurring to a patient in a healthcare setting. An epidemiologic study by the Centers for Disease Control and Prevention (CDC) revealed that the subset of HAIs with hospital-onset accounted for approximately one in twenty hospital patients contracting an HAI. The fiscal cost is steep as well. HAIs contribute to an additional 28 to 33 billion dollars in healthcare expenditures annually.

For these reasons, the prevention and reduction of healthcare-associated infections is a top priority for the U.S. Department of Health and Human Services (HHS). Multiple agencies within HHS have been working to reduce the incidence and prevalence of HAIs for decades. To further efforts, the HHS Steering Committee for the Prevention of Healthcare-Associated Infections was established in July 2008 and charged with developing a comprehensive strategy to progress toward the elimination of HAIs.

In 2009, the Steering Committee issued the initial version of the National Action Plan to Prevent Healthcare-Associated Infections: Roadmap to Elimination. The initial strategy (Phase 1) focused on the prevention of infections in the acute care hospital setting and includes a prioritized research agenda; an integrated information systems strategy; policy options for linking payment incentives or disincentives to quality of care and enhancing regulatory oversight of hospitals; and a national messaging plan to raise awareness of HAIs among the general public, providers, and other stakeholder groups. The Action Plan also delineates specific measures and five-year goals to focus efforts and track national progress in reducing the most prevalent infections. In addition, the plan intended to enhance collaboration with non-government stakeholders and partners at the national, regional, state, and local levels to strengthen coordination and impact of efforts. Recognizing the need to coordinate prevention efforts across healthcare facilities, HHS released Phase 2 of the Action Plan in late 2010. Phase 2 expands efforts outside of the acute care setting into outpatient facilities (ambulatory surgical centers and end-stage renal disease facilities). Phase 2 of the Action Plan also addressed strategies to increase influenza vaccination coverage amongst healthcare personnel as influenza transmission to patients by healthcare personnel is well documented; healthcare personnel can acquire and transmit influenza from patients or transmit influenza to patients and other staff; and higher vaccination coverage among healthcare personnel has been associated with a lower incidence of healthcare-associated influenza cases.

The healthcare and public health communities are increasingly challenged to identify, respond to, and prevent HAIs across the continuum of settings where healthcare is delivered. The public health model's population-based perspective can be deployed to enhance HAI prevention, particularly given the shifts in healthcare delivery from the acute care (Phase 1) to ambulatory (Phase 2) and now to long-term care facilities with Phase 3.

The Steering Committee has drafted a strategy or modules that address HAI prevention in long-term care facilities, specifically nursing facilities and skilled nursing facilities. Similar to its Phase 1 & 2 efforts, Phase 3 Long-Term Care Facilities healthcare-associated infection reduction strategies expect to be executed through research and guideline development, implementation of national quality improvement initiatives at the provider level, and creation of payment policies that promote infection control and reduction in healthcare facilities.

To assist the Steering Committee in obtaining broad input in the development of the draft module, HHS, through this request for information (RFI), is seeking comments from stakeholders and the general public on the draft Phase 3 Long-Term Care Facilities module. The modules can be found at http://www.hhs.gov/ash/initiatives/hai/actionplan/index.html#tier3.

II. Information Request

The Office of Healthcare Quality, on behalf of the HHS Steering Committee for the Prevention of Healthcare-Associated Infections, requests input on the draft: “Long-Term Care Facilities.” In addition to general comments, the Steering Committee is seeking input on any additional gaps not addressed in the draft strategies.

III. Potential Responders

HHS invites input from a broad range of individuals and organizations that have interests in preventing and reducing healthcare-associated infections. Some examples of these organizations include, but are not limited to the following:

—General public

—Healthcare, professional, and educational organizations/societies

—Caregivers or health system providers (e.g., physicians, physician assistants, nurses, infection preventionists)

—State and local public health agencies

—Public health organizations

—Foundations

—Medicaid- and Medicare-related organizations

—Insurers and business groups

—Collaboratives and consortia

When responding, please self-identify with any of the above or other categories (include all that apply) and your name. Anonymous submissions will not be considered. The submission of written materials in response to the RFI should not exceed 10 pages, not including appendices and supplemental documents. Responders may submit other forms of electronic materials to demonstrate or exhibit concepts of their written responses. All comments received before the close of the comment period are available for viewing by the public, including any personally identifiable or confidential business information that is included in a comment.

Dated: July 17, 2012.
Don Wright,
Deputy Assistant Secretary for Health.

[FR Doc. 2012-17925 Filed 7-20-12; 8:45 am]

BILLING CODE 4150-28-P